DEPARTMENT OF THE INTERIOR

National Park Service

[NPS-WASO-NAGPRA-NPS0038580; PPWOCRADN0-PCU00RP14.R50000]

Notice of Inventory Completion: Museum of the Rockies, Bozeman, MT

AGENCY: National Park Service, Interior.

ACTION: Notice.

SUMMARY: In accordance with the Native American Graves Protection and Repatriation Act (NAGPRA), Museum of the Rockies has completed an inventory of associated funerary objects and has determined that there is a cultural affiliation between the associated funerary objects and Indian Tribes or Native Hawaiian organizations in this notice.

DATES: Repatriation of the associated funerary objects in this notice may occur on or after September 23, 2024.

ADDRESSES: Eric Metz, Paleontology Collections Manager-Registrar, Museum of the Rockies, P.O. Box 172720, 600 W Kagy Boulevard, Bozeman, MT 59717, telephone (406) 994-6578, email eric.metz@montana.edu.

SUPPLEMENTARY INFORMATION: This notice is published as part of the National Park Service's administrative responsibilities under NAGPRA. The determinations in this notice are the sole responsibility of the Museum of the Rockies, and additional information on the determinations in this notice, including the results of consultation, can be found in its inventory or related records. The National Park Service is not responsible for the determinations in this notice.

Abstract of Information Available

Six associated funerary objects have been identified. The six associated funerary objects are six lithics including one point blank, four diagnostic points, and one broken obsidian point. In 1951, human remains representing, at minimum, one individual were removed from a mesa in Carbon County, MT, by Joseph L. Cramer. The mesa, located 1.5 miles southeast of Joliet Town, is the divide between Rock Creek & Elbow Creek. In 1991, Cramer donated these human remains and associated funerary objects to Museum of the Rockies. The human remains associated with these objects have been listed in a Notice of Inventory Completion published in the Federal Register on May 18, 2023 (88 FR 31819-31820).

Cultural Affiliation

Based on the information available and the results of consultation, cultural affiliation is clearly identified by the information available about the associated funerary objects described in this notice.

Determinations

The Museum of the Rockies has determined that:

• The six objects described in this notice are reasonably believed to have been placed intentionally with or near individual human remains at the time of death or later as part of the death rite or ceremony.

• There is a connection between the human remains and associated funerary objects described in this notice and the Crow Tribe of Montana.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after September 23, 2024. If competing requests for repatriation are received, the Museum of the Rockies must determine the most appropriate requestor prior to repatriation. Requests for joint repatriation of the associated funerary objects are considered a single request and not competing requests. The Museum of the Rockies is responsible for sending a copy of this notice to the Indian Tribes and Native Hawaiian organizations identified in this notice.

Authority: Native American Graves Protection and Repatriation Act, 25 U.S.C. 3003, and the implementing regulations, 43 CFR 10.10.

Dated: August 15, 2024.
Mariah Soriano,
Acting Manager, National NAGPRA Program.

[FR Doc. 2024-18962 Filed 8-22-24; 8:45 am]

BILLING CODE 4312-52-P